POSTAL SERVICE

39 CFR Part 111

Domestic Competitive Products Pricing and Mailing Standards Changes

AGENCY: Postal Service™.

ACTION: Final rule.

SUMMARY: The Postal Service is amending Mailing Standards of the United States Postal Service, Domestic Mail Manual (DMM®), to reflect changes to prices and mailing standards for competitive products.

DATES: Effective Date: January 27, 2019.

FOR FURTHER INFORMATION CONTACT: Tom Foti at (202) 268-2931 or Garry Rodriguez at (202) 268-7281.

SUPPLEMENTARY INFORMATION: This final rule describes new prices and product features for competitive products, by class of mail, established by the Governors of the United States Postal Service®. New prices are available under Docket Number CP2019-3 on the Postal Regulatory Commission PRC website at http://www.prc.gov, and on the Postal Explorer® website at http://pe.usps.com.

The Postal Service will revise Mailing Standards of the United States Postal Service, Domestic Mail Manual (DMM), to reflect changes to prices and mailing standards for the following competitive products:

• Priority Mail Express®.

• Priority Mail®.

• First-Class Package Service®.

• Parcel Select®.

• USPS Retail Ground®.

• Extra Services.

• Return Services.

• Mailer Services.

• Recipient Services.

Competitive product prices and changes are identified by product as follows:

Priority Mail Express

Prices

Overall, Priority Mail Express prices will increase 3.9 percent. Priority Mail Express will continue to offer zoned and Flat Rate Retail, Commercial Base™, and Commercial Plus™ pricing.

Retail prices will increase an average of 3.9 percent. The Flat Rate Envelope price will increase to $25.50, the Legal Flat Rate Envelope will increase to $25.70, and the Padded Flat Rate Envelope will increase to $26.20.

Commercial Base prices offer lower prices to customers who use authorized postage payment methods. Commercial Base prices will increase an average of 3.9 percent.

Commercial Plus prices were matched to the Commercial Base prices in the 2016 price change and will continue to be matched in 2018.

Dimensional Weight Pricing

The Postal Service is implementing Dimensional Weight (DIM) pricing for Priority Mail Express retail and commercial parcels. Postage for Priority Mail Express parcels addressed for delivery to Zones 1 through 9 and exceeding 1 cubic foot (1,728 cubic inches) will be based on the actual weight or the dimensional weight, whichever is greater.

Priority Mail Express DIM weight pricing will be calculated using one of two formulas, rectangular or nonrectangular, with a DIM divisor of 166.

Priority Mail

Prices

Overall, Priority Mail prices will increase 5.9 percent. Priority Mail will continue to offer zoned and Flat Rate Retail, Commercial Base, and Commercial Plus pricing.

Retail prices will increase an average of 6.6 percent. The Flat Rate Envelope price will increase to $7.35, the Legal Flat Rate Envelope will increase to $7.65, and the Padded Flat Rate Envelope will increase to $8.00. The Small Flat Rate Box price will increase to $7.90 and the Medium Flat Rate Boxes will increase to $14.35. The Large Flat Rate Box will increase to $19.95 and the APO/FPO/DPO Large Flat Rate Box will increase to $18.45.

Commercial Base prices offer lower prices to customers who use authorized postage payment methods. Commercial Base prices will increase an average of 3.2 percent.

The Commercial Plus price category offers price incentives to large volume customers who have a customer commitment agreement with USPS®. Commercial Plus prices will increase an average of 6.2 percent.

Dimensional Weight Pricing

The Postal Service is extending the zones for Priority Mail retail, commercial, and commercial plus Dimensional Weight (DIM) pricing to include all zones. Postage for Priority Mail parcels addressed for delivery to Zones 1 through 9 and exceeding 1 cubic foot (1,728 cubic inches) will be based on the actual weight or the dimensional weight, whichever is greater.

The Postal Service will also change the DIM divisor used in the rectangular and nonrectangular formulas to 166.

Balloon Pricing

As a result of the zone extension to include all zones for Priority Mail DIM weight pricing, the Postal Service will eliminate balloon pricing under the retail, commercial, and commercial plus price categories.

First-Class Package Service

Prices

Overall, First-Class Package Service—Retail prices will increase 13.3 percent.

Overall, First-Class Package Service—Commercial prices will increase 11.9 percent.

Zone Pricing

First-Class Package Service—Retail and First-Class Package Service—Commercial price computation will change to weight and zone based pricing. First-Class Package Service—Retail prices will continue to start at 1 ounce up to 13 ounces and First-Class Package Service—Commercial prices will continue to start at 1 ounce up to less than 16 ounces.

Parcel Select

Prices

The prices for Parcel Select Destination Entry increase an average of 9.3 percent. Parcel Select Ground prices will decrease an average of 1.3 percent. The prices for Parcel Select Lightweight® will increase an average of 12.3 percent.

Dimensional Weight Pricing

The Postal Service is implementing Dimensional Weight (DIM) weight pricing for Parcel Select parcels in the Destination Entry and Ground price categories. Postage for Parcel Select parcels addressed for delivery to Zones 1 through 9 and exceeding 1 cubic foot (1,728 cubic inches) will be based on the actual weight or the dimensional weight, whichever is greater.

Parcel Select DIM weight pricing will be calculated using one of two formulas, rectangular or nonrectangular, with a DIM divisor of 166.

Balloon Pricing

As a result of the implementation of DIM pricing for Parcel Select parcels in zones 1 through 9, the Postal Service will eliminate balloon pricing under the Destination Entry and Ground price categories.

USPS Retail Ground

Overall, USPS Retail Ground prices will increase an average of 3.9 percent.

Extra Services

Adult Signature Service

Adult Signature Required and Adult Signature Restricted Delivery service prices are increasing 4.9 percent. The price for Adult Signature Required will increase to $6.40 and Adult Signature Restricted Delivery will increase to $6.66.

Return Services

Parcel Return Service

Overall, Parcel Return Service prices will increase an average of 6.8 percent.

Return Sectional Center Facility (RSCF) prices will increase an average of 6.4 percent and Return Delivery Unit (RDU) prices will increase an average of 7.3 percent.

Mailer Services

Pickup on Demand Service

The Pickup on Demand® service fee will increase 4.5 percent to be $23.00.

Recipient Services

Post Office Box Service

The competitive Post Office Box™ service prices will increase an average of 10.0 percent within the existing price ranges.

Premium Forwarding Service

Premium Forwarding Service® (PFS®) prices will increase between 4.9 and 11.1 percent depending on the specific price element. The enrollment fee paid at the retail counter for PFS-Residential will increase to $21.10 and the PFS-Residential and PFS-Commercial enrollment fee paid online will increase to $19.35 per application. The price of the weekly shipment charge for PFS-Residential will increase to $21.10.

Premium Forwarding Service Local

The Postal Service is adding another option to the Premium Forwarding Service product, Premium Forwarding Service Local (PFS-Local). PFS-Local provides residential and business customers the option to have USPS gather their mail addressed to Post Office Boxes (except no fee Group E boxes) within the same servicing postal facility, and dispatch the mail to their delivery street address. An annual enrollment fee is required, and a reshipment fee is charged for each container of mail requested and received by the customer (Monday through Saturday).

USPS Package Intercept

The USPS Package Intercept™ fee will increase 4.8 percent to $14.10.

Other

Address Enhancement Service

Address Enhancement Service competitive product prices will increase between 2.6 and 4.0 percent.

Small Parcel Forwarding Fee

The Postal Service is introducing a “small parcel” forwarding fee for Parcel Select Lightweight parcels. The forwarding fee would only apply for pieces endorsed “Change Service Requested” under “Option 2” (ACS only) that are forwarded due to an active change-of-address. All other undeliverable pieces will be discarded and an electronic ACS notice is provided in both cases.

Overweight Item Charge

As discussed in the August 29, 2018, Federal Register final rule (83 FR 43985-43986), the Postal Service is introducing a charge for items identified in the postal network that exceed the 70 pound weight limit for Postal Service products, and are therefore are nonmailable. Overweight items identified in the postal network will be assessed a $100 charge payable before release of the item, unless the item is picked up at the same facility where it was entered.

Resources

The Postal Service provides additional resources to assist customers with this price change for competitive products. These tools include price lists, downloadable price files, and Federal Register Notices, which may be found on the Postal Explorer® website at http://pe.usps.com.

For the above reasons, the Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise Mailing Standards of the United States Postal Service, Domestic Mail Manual (DMM) as follows:

Mailing Standards of the United States Postal Service, Domestic Mail Manual (DMM)

* * * * *

100 Retail Mail Letters, Cards, Flats, and Parcels

* * * * *

110 Priority Mail Express

113 Prices and Eligibility

1.0 Prices and Fees

* * * * *

[Renumber 1.3 through 1.5 as 1.4 through 1.6 and add new 1.3 to read as follows:]

1.3 Dimensional Weight Price for Low-Density Parcels to Zones 1-9

Postage for parcels addressed for delivery to Zones 1-9 and exceeding 1 cubic foot (1,728 cubic inches) is based on the actual weight or the dimensional weight (as calculated in 1.3.1 or 1.3.2), whichever is greater.

1.3.1 Determining Dimensional Weight for Rectangular Parcels

Follow these steps to determine the dimensional weight for a rectangular parcel:

a. Measure the length, width, and height in inches. Round off (see 604.7.0) each measurement to the nearest whole inch.

b. Multiply the length by the width by the height.

c. If the result exceeds 1,728 cubic inches, divide the result by 166 and round up (see 604.7.0) to the next whole number to determine the dimensional weight in pounds.

d. If the dimensional weight exceeds 70 pounds, the customer pays the 70-pound price.

1.3.2 Determining Dimensional Weight for Nonrectangular Parcels

Follow these steps to determine the dimensional weight for a nonrectangular parcel:

a. Measure the length, width, and height in inches at their extreme dimensions. Round off (see 604.7.0) each measurement to the nearest whole inch.

b. Multiply the length by the width by the height.

c. Multiply the result by an adjustment factor of 0.785.

d. If the final result exceeds 1,728 cubic inches, divide the result by 166 and round up (see 604.7.0) to the next whole number to determine the dimensional weight in pounds.

e. If the dimensional weight exceeds 70 pounds, the customer pays the 70-pound price.

* * * * *

120 Priority Mail

123 Prices and Eligibility

1.0 Prices and Fees

* * * * *

[Delete 1.3, Balloon Price, in its entirety and renumber 1.4 through 1.7 as 1.3 through 1.6.]

[Revise the heading and text of renumbered 1.3 to read as follows:]

1.3 Dimensional Weight Price for Low-Density Parcels to Zones 1-9

Postage for parcels addressed for delivery to Zones 1-9 and exceeding 1 cubic foot (1,728 cubic inches) is based on the actual weight or the dimensional weight (as calculated in 1.3.1 or 1.3.2), whichever is greater.

1.3.1 Determining Dimensional Weight for Rectangular Parcels

Follow these steps to determine the dimensional weight for a rectangular parcel:

* * * * *

[Revise the text of renumbered item 1.3.1c to read as follows:]

c. If the result exceeds 1,728 cubic inches, divide the result by 166 and round up (see 604.7.0) to the next whole number to determine the dimensional weight in pounds.

[Add new item d to read as follows:]

d. If the dimensional weight exceeds 70 pounds, the customer pays the 70-pound price.

1.3.2 Determining Dimensional Weight for Nonrectangular Parcels

Follow these steps to determine the dimensional weight for a nonrectangular parcel:

* * * * *

[Revise the text of renumbered item 1.3.2d to read as follows:]

d. If the final result exceeds 1,728 cubic inches, divide the result by 166 and round up (see 604.7.0) to the next whole number to determine the dimensional weight in pounds.

* * * * *

130 Retail First-Class Mail and First-Class Package Service—Retail

133 Prices and Eligibility

1.0 Prices and Fees

* * * * *

1.2 Price Computation for First-Class Mail and First-Class Package Service—Retail

[Revise the text of 1.2 to read as follows:]

First-Class Mail and First-Class Package Service—Retail prices are charged as follows:

a. First-Class Mail—Per ounce or fraction thereof; any fraction of an ounce is considered a whole ounce. For example, if a piece weighs 0.5 ounces, the weight (postage) increment is 1 ounce.

b. First-Class Package Service—Retail—Based on weight and zone; any fraction of an ounce is considered a whole ounce.

* * * * *

200 Commercial Letters, Flats, and Parcels

* * * * *

210 Priority Mail Express

213 Prices and Eligibility

1.0 Prices and Fees

* * * * *

[Renumber 1.5 through 1.7 as 1.6 through 1.8 and add new 1.5 to read as follows:]

1.5 Dimensional Weight Price for Low-Density Parcels to Zones 1-9

Postage for parcels addressed for delivery to Zones 1-9 and exceeding 1 cubic foot (1,728 cubic inches) is based on the actual weight or the dimensional weight (as calculated in 1.5.1 or 1.5.2), whichever is greater.

1.5.1 Determining Dimensional Weight for Rectangular Parcels

Follow these steps to determine the dimensional weight for a rectangular parcel:

a. Measure the length, width, and height in inches. Round off (see 604.7.0) each measurement to the nearest whole inch.

b. Multiply the length by the width by the height.

c. If the result exceeds 1,728 cubic inches, divide the result by 166 and round up (see 604.7.0) to the next whole number to determine the dimensional weight in pounds.

d. If the dimensional weight exceeds 70 pounds, the customer pays the 70-pound price.

1.5.2 Determining Dimensional Weight for Nonrectangular Parcels

Follow these steps to determine the dimensional weight for a nonrectangular parcel:

a. Measure the length, width, and height in inches at their extreme dimensions. Round off (see 604.7.0) each measurement to the nearest whole inch.

b. Multiply the length by the width by the height.

c. Multiply the result by an adjustment factor of 0.785.

d. If the final result exceeds 1,728 cubic inches, divide the result by 166 and round up (see 604.7.0) to the next whole number to determine the dimensional weight in pounds.

e. If the dimensional weight exceeds 70 pounds, the customer pays the 70-pound price.

* * * * *

220 Priority Mail

223 Prices and Eligibility

1.0 Prices and Fees

* * * * *

[Delete 1.5, Balloon Price, in its entirety and renumber 1.6 through 1.11 as 1.5 through 1.10.]

[Revise the heading and text of renumbered 1.5 to read as follows:]

1.5 Dimensional Weight Price for Low-Density Parcels to Zones 1-9

Postage for parcels addressed for delivery to Zones 1-9 and exceeding 1 cubic foot (1,728 cubic inches) is based on the actual weight or the dimensional weight (as calculated in 1.5.1 or 1.5.2), whichever is greater.

1.5.1 Determining Dimensional Weight for Rectangular Parcels

Follow these steps to determine the dimensional weight for a rectangular parcel:

* * * * *

[Revise the text of renumbered item 1.5.1c to read as follows:]

c. If the result exceeds 1,728 cubic inches, divide the result by 166 and round up (see 604.7.0) to the next whole number to determine the dimensional weight in pounds.

[Add new item d to read as follows:]

d. If the dimensional weight exceeds 70 pounds, the customer pays the 70-pound price.

1.5.2 Determining Dimensional Weight for Nonrectangular Parcels

Follow these steps to determine the dimensional weight for a nonrectangular parcel:

* * * * *

[Revise the text of renumbered item 1.5.2d to read as follows:]

d. If the final result exceeds 1,728 cubic inches, divide the result by 166 and round up (see 604.7.0) to the next whole number to determine the dimensional weight in pounds.

* * * * *

250 Parcel Select

253 Prices and Eligibility

1.0 Prices and Fees

* * * * *

[Renumber 1.3 as 1.4 and add new 1.3 to read as follows:]

1.3 Dimensional Weight Price for Low-Density Parcels to Zones 1-9

Postage for parcels addressed for delivery to Zones 1-9 and exceeding 1 cubic foot (1,728 cubic inches) is based on the actual weight or the dimensional weight (as calculated in 1.3.1 or 1.3.2), whichever is greater.

1.3.1 Determining Dimensional Weight for Rectangular Parcels

Follow these steps to determine the dimensional weight for a rectangular parcel:

a. Measure the length, width, and height in inches. Round off (see 604.7.0) each measurement to the nearest whole inch.

b. Multiply the length by the width by the height.

c. If the result exceeds 1,728 cubic inches, divide the result by 166 and round up (see 604.7.0) to the next whole number to determine the dimensional weight in pounds.

d. If the dimensional weight exceeds 70 pounds, the customer pays the 70-pound price.

1.3.2 Determining Dimensional Weight for Nonrectangular Parcels

Follow these steps to determine the dimensional weight for a nonrectangular parcel:

a. Measure the length, width, and height in inches at their extreme dimensions. Round off (see 604.7.0) each measurement to the nearest whole inch.

b. Multiply the length by the width by the height.

c. Multiply the result by an adjustment factor of 0.785.

d. If the final result exceeds 1,728 cubic inches, divide the result by 166 and round up (see 604.7.0) to the next whole number to determine the dimensional weight in pounds.

e. If the dimensional weight exceeds 70 pounds, the customer pays the 70-pound price.

* * * * *

280 First-Class Package Service—Commercial

283 Prices and Eligibility

1.0 Prices and Fees

1.1 Price Application

[Revise the first sentence of 1.1 to read as follows:]

Postage is based on the price that applies to the weight and zone of each addressed piece. * * *

* * * * *

285 Mail Preparation

1.0 Preparation for First-Class Package Service—Commercial

The following standards apply to single-piece First-Class Package Service—Commercial:

* * * * *

[Revise the text of item b to read as follows:]

b. There are no presorting requirements for single-piece First-Class Package Service—Commercial parcels paid with postage evidencing system postage.

[Renumber 2.0 as 3.0 and add new 2.0 to read as follows:]

2.0 Preparation of Permit Imprint Mailings

2.1 Identical Weight Pieces

To use a permit imprint, the pieces must be of identical weight and, unless all the pieces are in a weight category for which the price does not vary by zone, the pieces must be separated by zone when presented to the Post Office, except under 2.2.

2.2 Nonidentical Weight Pieces

A permit imprint may be used for mailings of nonidentical-weight pieces only if authorized by Business Mailer Support at USPS Headquarters.

* * * * *

500 Additional Mailing Services

* * * * *

505 Return Services

1.0 Business Reply Mail (BRM)

1.1 BRM Postage and Fees

1.1.1 Basic BRM

[Revise the second sentence of 1.1.1 to read as follows:]

* * * For First-Class Package Service—Retail, or Priority Mail BRM pieces exceeding 13 ounces in weight, if the zone cannot be determined from a return address or cancellation, then the permit holder is charged zone 4 postage based on the weight of the piece. * * *

* * * * *

1.1.5 Bulk Weight Averaged Nonletter-Size BRM

[Revise the text of 1.1.5 to read as follows:]

In addition to an annual permit fee (which will apply under 1.2.3 for the return of any flat-size pieces), per piece fee and the applicable Retail First-Class Mail, First-Class Package Service—Retail, or Priority Mail postage, permit holders participating in bulk weight averaged nonletter-size BRM under 1.8 must pay an annual account maintenance fee and a monthly maintenance fee.

* * * * *

508 Recipient Services

* * * * *

7.0 Premium Forwarding Services

[Renumber 7.1 as 7.2, delete the heading of current 7.2, Preparation, and renumber current 7.2.1 as 7.2.6. Add new 7.1 to read as follows:]

7.1 Premium Forwarding Services Description

Premium Forwarding Services offers three options as follows:

a. Premium Forwarding Service Residential (PFS-Residential): Provides certain residential customers an option to have all mail addressed to their primary address shipped to a temporary address as described under 7.2.

b. Premium Forwarding Service Commercial (PFS-Commercial): Provides business commercial customers the option to have USPS gather their mail addressed to business P.O. Boxes or business street addresses and dispatched to a new address as described under 7.3.

c. Premium Forwarding Service Local (PFS-Local): Provides certain residential/individual and business/organization Post Office Box holders the option to have the USPS gather their mail addressed to their P.O. Box for delivery to their street address as described under 7.4.

* * * * *

[Add new section 7.4 to read as follows:]

7.4 Premium Forwarding Service Local

7.4.1 Description

Premium Forwarding Service Local (PFS-Local) provides certain residential/individual and business/organization Post Office Box holders the option to have the USPS gather their mail addressed to their P.O. Box (excludes no-fee Group E P.O. Boxes) and dispatch the mail to their delivery street address when both addresses are within the same local servicing postal facility. An annual enrollment fee is required, and a reshipment fee is charged (see 7.4.3b) for each reshipment container. Email notifications are sent regarding reshipments or when there is no mail available to forward. See Notice 123—Price List for postage price and fee.

7.4.2 Activation

Customers must enroll for PFS-Local and pay the annual enrollment fee online via USPS.com at www.usps.com/manage/forward.htm for residential/individual boxholders or the Business Customer Gateway at https://gateway.usps.com/eAdmin/view/signin for business/organization boxholders. Customers must specify the active P.O. Box, a deliverable destination address, and frequency (Monday through Saturday). Service is activated electronically, upon receipt of an email confirmation.

7.4.3 Conditions

Only the residential/individual use P.O. Box customer or authorized recipient (or legal agent) of a business' (or organization's) P.O. Box mail that is on file may activate the request for PFS-Local service. PFS-Local service is subject to these conditions:

a. Customers must pay an annual enrollment fee per P.O. Box to establish service. The enrollment fee is refundable only if the request is denied.

b. The annual enrollment and reshipment fees are paid using a credit card for residential/individual use P.O. Box customers or a permit linked to the Enterprise Payment System (EPS) account for commercial customers.

c. The reshipment fee is charged for each reshipment container. Customers may request reshipments Monday through Saturday.

d. If no mail is collected for reshipment on a designated frequency day, no reshipment fee is charged.

e. Any mailpiece arriving postage due is charged using the customer's postage due account prior to delivery. If no account exists, the appropriate postage due is collected upon delivery.

f. A business must keep a postage-due merchandise return service (MRS) account or business reply mail (BRM) account at the originating postal facility where the P.O. Box or business street address is located. Any short paid, MRS, or BRM pieces will be charged to the mailer's account prior to reshipment.

g. Any mailpiece indicating surface only transportation such as Label 127, Surface Mail only, or bears other hazardous materials markings such as “Consumer Commodity ORM-D” is not included in the reshipment and a delivery notice will be provided in the PFS-Local reshipment.

h. Mailpieces that do not fit in the reshipment container, or that require a scan or signature, will be scanned (when applicable) and recorded on a firm sheet (Form 3883-A) for delivery in the PFS-Local reshipment upon signature of Form 3849.

i. Some mailpieces may be reshipped separately from the PFS-Local shipment to the customer's deliverable physical street address.

j. Customers may cancel their PFS-Local service effective 24 hours after the USPS receives the customer's request for cancellation through USPS.com or the Business Customer Gateway. The customer must pay all reshipment fees as applicable for any reshipments already scheduled before cancellation of service is made effective.

k. USPS may cancel a customer's PFS-Local service request effective 24 hours after the customer receives written notice of cancellation from the serving Post Office. Cancellation is based upon the customer`s failure to pay the fees, failure to meet the standards for PFS-Local service, or when there is substantial reason to believe that the service is being or will be used for unlawful activities (in this case, cancellation within less than 24-hours may be granted by USPS). The customer may appeal this cancellation of services to the Manager, Post Office Operations, but must pay for all reshipment fees as applicable for any service provided during the appeal period.

7.4.4 Prohibited Use

PFS-Local is not available for:

a. Customers who have an active change-of-address (COA) (temporary or permanent).

b. Customers who have an active Hold Mail Authorization (Form 8076). Mail that has previously been held at the primary P.O. Box address cannot be included in the reshipments.

c. Customers who have a no-fee Group E P.O. Box.

d. Customers whose primary P.O. Box address is a central point to which the USPS provides delivery in bulk to a third party, such as a commercial mail receiving agency (CMRA).

e. Customers whose primary address or temporary address is an APO/FPO or DPO.

f. Customers whose address is within the 969 3-digit ZIP Code area or is otherwise in a U.S. territory or possession that requires a customs declaration.

g. Customers who have an active PFS-Residential or PFS-Commercial order.

* * * * *

600 Basic Standards for All Mailing Services

601 Mailability

1.0 General Standards

* * * * *

1.2 Overweight Items

[Revise 1.2 by adding a new last sentence to read as follows:]

* * * Unless the item is picked up at the same facility where it was entered, an Overweight item charge of $100 will be assessed and must be paid by any authorized retail payment method or through the Enterprise Payment System, before release of the item.

* * * * *

Notice 123 (Price List)

[Revise competitive prices as applicable.]

* * * * *

We will publish an appropriate amendment to 39 CFR part 111 to reflect these changes.

Ruth B. Stevenson,
Attorney, Federal Compliance.

[FR Doc. 2018-22474 Filed 10-16-18; 8:45 am]

BILLING CODE 7710-12-P